DEPARTMENT OF ENERGY

Federal Energy Regulatory Commission

Combined Notice of Filings #2

Take notice that the Commission received the following electric corporate filings:

Docket Numbers: EC16-11-000.

Applicants: Greeley Energy Facility, LLC.

Description: Application for Authorization Under Section 203 of the Federal Power Act and Request for Expedited Action of Greeley Energy Facility, LLC.

Filed Date: 10/13/15.

Accession Number: 20151013-5592.

Comments Due: 5 p.m. ET 11/3/15.

Take notice that the Commission received the following exempt wholesale generator filings:

Docket Numbers: EG16-6-000.

Applicants: Fair Wind Power Partners, LLC.

Description: Notice of Self-Certification of Exempt Wholesale Generator Status of Fair Wind Power Partners, LLC.

Filed Date: 10/13/15.

Accession Number: 20151013-5199.

Comments Due: 5 p.m. ET 11/3/15.

Docket Numbers: EG16-7-000.

Applicants: Los Vientos Windpower IV, LLC.

Description: Notice of Self-Certification as an Exempt Wholesale Generator of Los Vientos Windpower IV, LLC.

Filed Date: 10/13/15.

Accession Number: 20151013-5387.

Comments Due: 5 p.m. ET 11/3/15.

Docket Numbers: EG16-8-000.

Applicants: Los Vientos Windpower V, LLC.

Description: Self-Certification as an Exempt Wholesale Generator of Los Vientos Windpower V, LLC.

Filed Date: 10/13/15.

Accession Number: 20151013-5443.

Comments Due: 5 p.m. ET 11/3/15.

Docket Numbers: EG16-9-000.

Applicants: Yuma Cogeneration Associates.

Description: Notice of Self-Certification of Exempt Wholesale Generator Status of Yuma Cogeneration Associates.

Filed Date: 10/13/15.

Accession Number: 20151013-5695.

Comments Due: 5 p.m. ET 11/3/15.

Take notice that the Commission received the following electric rate filings:

Docket Numbers: ER15-518-005.

Applicants: Duke Energy Florida, LLC, Duke Energy Progress, LLC, Duke Energy Carolinas, LLC.

Description: Compliance filing: Order 676-H Compliance Filing (Revised) to be effective 5/15/2015.

Filed Date: 10/13/15.

Accession Number: 20151013-5656.

Comments Due: 5 p.m. ET 11/3/15.

Docket Numbers: ER15-2358-001.

Applicants: Pacific Gas and Electric Company.

Description: Compliance filing: eTariff Migration Compliance Filing for Pending Record in DWR SA 275 (App C) to be effective 7/23/2015.

Filed Date: 10/13/15.

Accession Number: 20151013-5089.

Comments Due: 5 p.m. ET 11/3/15.

Docket Numbers: ER15-2501-001.

Applicants: Midcontinent Independent System Operator, Inc.

Description: Tariff Amendment: 2015-10-13_SA 2219 ATC-METC Transmission IA Resubmittal Amendment to be effective 7/1/2010.

Filed Date: 10/13/15.

Accession Number: 20151013-5670.

Comments Due: 5 p.m. ET 11/3/15.

Docket Numbers: ER15-2541-001.

Applicants: Burgess Capital LLC.

Description: Tariff Amendment: Revised Filing to be effective 10/13/2015.

Filed Date: 10/13/15.

Accession Number: 20151013-5385

Comments Due: 5 p.m. ET 11/3/15.

Docket Numbers: ER16-47-000.

Applicants: Northern States Power Company, a Minnesota corporation.

Description: Section 205(d) Rate Filing: 2015-10-12_New Ulm-UnEXE T-L_0.0.0—Filing to be effective 1/1/2016.

Filed Date: 10/13/15.

Accession Number: 20151013-5073.

Comments Due: 5 p.m. ET 11/3/15.

Docket Numbers: ER16-48-000.

Applicants: Public Service Company of Colorado.

Description: Section 205(d) Rate Filing: 2015-10-12-PSC-WAPA-Wtrflw Agrmt-380-0.0.0—Filing to be effective 12/12/2015.

Filed Date: 10/13/15.

Accession Number: 20151013-5074.

Comments Due: 5 p.m. ET 11/3/15.

Docket Numbers: ER16-49-000

Applicants: Northern States Power Company, a Minnesota corporation.

Description: Section 205(d) Rate Filing: 2015-10-12_MMPA Tm-1 Removal-3_0.2.0—Filing to be effective 1/1/2016.

Filed Date: 10/13/15.

Accession Number: 20151013-5078.

Comments Due: 5 p.m. ET 11/3/15.

Docket Numbers: ER16-50-000.

Applicants: Public Service Company of Colorado.

Description: Section 205(d) Rate Filing: 2015-10-12-PSC-TSGT-USA-379-0.0.0—Filing to be effective—9/1/2015.

Filed Date: 10/13/15.

Accession Number: 20151013-5079.

Comments Due: 5 p.m. ET 11/3/15.

Docket Numbers: ER16-51-000.

Applicants: Solar Star California XIX, LLC.

Description: Baseline eTariff Filing: Certificate of Concurrence Filing to be effective 10/13/2015.

Filed Date: 10/13/15.

Accession Number: 20151013-5510.

Comments Due: 5 p.m. ET 11/3/15.

Docket Numbers: ER16-52-000.

Applicants: PJM Interconnection, L.L.C., Commonwealth Edison Company.

Description: Section 205(d) Rate Filing: ComEd revises Attachment H-13 to add certain wholesale distribution charges to be effective 10/14/2015.

Filed Date: 10/13/15.

Accession Number: 20151013-5514.

Comments Due: 5 p.m. ET 11/3/15.

Docket Numbers: ER16-53-000.

Applicants: Southern California Edison Company.

Description: Section 205(d) Rate Filing: Amended LGIA North Rosamond Solar, LLC to be effective 10/14/2015.

Filed Date: 10/13/15.

Accession Number: 20151013-5523.

Comments Due: 5 p.m. ET 11/3/15.

Docket Numbers: ER16-55-000.

Applicants: Southern California Edison Company.

Description: Section 205(d) Rate Filing: Amended LGIA Willow Springs Solar, LLC to be effective 10/14/2015.

Filed Date: 10/13/15.

Accession Number: 20151013-5524.

Comments Due: 5 p.m. ET 11/3/15.

Docket Numbers: ER16-56-000.

Applicants: Midcontinent Independent System Operator, Inc.

Description: Section 205(d) Rate Filing: 2015-10-13_Hurdle Rate Removal Filing to be effective 2/1/2016.

Filed Date: 10/13/15.

Accession Number: 20151013-5526.

Comments Due: 5 p.m. ET 11/3/15.

Docket Numbers: ER16-60-000.

Applicants: PJM Interconnection, L.L.C.

Description: Section 205(d) Rate Filing: Original Service Agreement No. 4262; Queue X3-015 (ISA) to be effective 9/16/2015.

Filed Date: 10/13/15.

Accession Number: 20151013-5536.

Comments Due: 5 p.m. ET 11/3/15.

Docket Numbers: ER16-61-000.

Applicants: Seville Solar One LLC.

Description: Baseline eTariff Filing: MBR Tariff and Application to be effective 10/13/2015.

Filed Date: 10/13/15.

Accession Number: 20151013-5543.

Comments Due: 5 p.m. ET 11/3/15.

Docket Numbers: ER16-62-000.

Applicants: PJM Interconnection, L.L.C.

Description: Section 205(d) Rate Filing: First Revised Interconnection Service Agreement No. 3340, Queue No. AA2-052 to be effective 9/11/2015.

Filed Date: 10/13/15.

Accession Number: 20151013-5554.

Comments Due: 5 p.m. ET 11/3/15.

Docket Numbers: ER16-63-000.

Applicants: Seville Solar Two, LLC.

Description: Baseline eTariff Filing: MBR Tariff and Application to be effective 10/13/2015.

Filed Date: 10/13/15.

Accession Number: 20151013-5557.

Comments Due: 5 p.m. ET 11/3/15.

Docket Numbers: ER16-64-000.

Applicants: Tallbear Seville LLC.

Description: Baseline eTariff Filing: MBR Tariff and Application to be effective 10/13/2015.

Filed Date: 10/13/15.

Accession Number: 20151013-5563.

Comments Due: 5 p.m. ET 11/3/15.

Docket Numbers: ER16-65-000.

Applicants: Seville Solar One LLC.

Description: Section 205(d) Rate Filing: SFA and SLA Filing to be effective 10/13/2015.

Filed Date: 10/13/15.

Accession Number: 20151013-5584.

Comments Due: 5 p.m. ET 11/3/15.

Docket Numbers: ER16-66-000.

Applicants: Seville Solar Two, LLC.

Description: Section 205(d) Rate Filing: Concurrence in SFA to be effective 10/13/2015.

Filed Date: 10/13/15.

Accession Number: 20151013-5587.

Comments Due: 5 p.m. ET 11/3/15.

Docket Numbers: ER16-67-000.

Applicants: Georgia Power Company.

Description: Section 205(d) Rate Filing: 2015 PBOP Filing to be effective 1/1/2015.

Filed Date: 10/13/15.

Accession Number: 20151013-5680.

Comments Due: 5 p.m. ET 11/3/15.

Docket Numbers: ER16-68-000.

Applicants: Mississippi Power Company.

Description: Section 205(d) Rate Filing: PBOP 2015 Filing to be effective 1/1/2015.

Filed Date: 10/13/15.

Accession Number: 20151013-5684.

Comments Due: 5 p.m. ET 11/3/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2015.
Nathaniel J. Davis, Sr.,
Deputy Secretary.

[FR Doc. 2015-26705 Filed 10-20-15; 8:45 am]

BILLING CODE 6717-01-P